DEPARTMENT OF TRANSPORTATION

Surface Transportation Board

[STB Finance Docket No. 33927]

SMS Rail Service, Inc.—Acquisition and Operation Exemption—Valero Refining Company—New Jersey

SMS Rail Service, Inc. (SMS), a Class III rail carrier, has filed a verified notice of exemption under 49 CFR 1150.41 to acquire, maintain and operate railroad track within the 970-acre Paulsboro, NJ, refinery of Valero Refining Company—New Jersey (Valero), formerly the refinery of Mobil Oil Corporation, pursuant to an agreement with Valero dated August 31, 2000. The trackage extends northward from a connection 950 feet to the west of milepost 14 on the Paulsboro Industrial Track of Consolidated Rail Corporation (Conrail), a distance of approximately 5.8 miles in Gloucester County, NJ. SMS states that its projected revenues will not exceed those that would qualify it as a Class III rail carrier and that its annual revenues are not expected to exceed $5 million.¹

¹ SMS indicates that Conrail currently operates the rail line.

The transaction was expected to be consummated on or after September 12, 2000.

If the notice contains false or misleading information, the exemption is void ab initio. Petitions to revoke the exemption under 49 U.S.C. 10502(d) may be filed at any time. The filing of a petition to revoke will not automatically stay the transaction.

An original and 10 copies of all pleadings, referring to STB Finance Docket No. 33927, must be filed with the Surface Transportation Board, Office of the Secretary, Case Control Unit, 1925 K Street, NW., Washington, DC 20423-0001. In addition, one copy of each pleading must be served on Fritz R. Kahn, 1920 N Street, NW., 8th Floor, Washington, DC 20036-1601.

Board decisions and notices are available on our website at “WWW.STB.DOT.GOV.”

Decided: September 14, 2000.
By the Board, David M. Konschnik, Director, Office of Proceedings.
Vernon A. Williams,
Secretary.

[FR Doc. 00-24166 Filed 9-21-00; 8:45 am]

BILLING CODE 4915-00-P